DEPARTMENT OF ENERGY

Federal Energy Regulatory Commission

[Project No. 2964-006]

City of Sturgis, Michigan; Notice of Availability of Final Environmental Assessment

November 15, 2002.

In accordance with the National Environmental Policy Act of 1969 and the Federal Energy Regulatory Commission's (Commission's) regulations, 18 CFR part 380 (Order No. 486, 52 FR 47897), the Office of Energy Projects has reviewed the application for a new license for the Strugis Hydroelectric Project located on the St. Joseph River, in St Joseph County, Michigan, and has prepared a Final Environmental Assessment (FEA) for the project. In the FEA, the Commission's staff has analyzed the potential environmental effects of the project and has concluded that approval of the project, with appropriate environmental measures, would not constitute a major federal action significantly affecting the quality of the human environment.

A copy of the EA is on file with the Commission and is available for public inspection. The EA may also be viewed on the Commission's Web site at http://www.ferc.gov using the “FERRIS” link. Enter the docket number excluding the last three digits in the docket number field to access the document. For assistance, call toll free 1-866-208-3676.

Any comments should be filed within 30 days from the issuance date of this notice and should be addressed to the Secretary, Federal Energy Regulatory Commission, 888 First Street, NE., Room 1-A, Washington, DC 20426. Please affix “Sturgis Project No. 2964” to all comments. Comments may be filed electronically via the Internet in lieu of paper. The Commission strongly encourages electronic filings. See 18 CFR 385.2001(a)(1)(iii) and the instructions on the Commission's website under the “e-Filing” link. For further information, contact Patrick Murphy at (202) 502-8755.

Linwood A. Watson, Jr.,
Deputy Secretary.

[FR Doc. 02-29719 Filed 11-20-02; 8:45 am]

BILLING CODE 6717-01-P